DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management Department of Homeland Security, Federal Emergency Management Agency.

State and county | Location and case No. | Chief executive officer of community | Community map repository | Date of modification | Community No.
California: Santa Barbara (FEMA Docket No.: B-1935). | Unincorporated areas of Santa Barbara County (18-09-1861P). | The Honorable Steve Lavagnino, Chairman, Santa Barbara County Board of Supervisors, 511 East Lakeside Parkway, Santa Barbara, CA 93454. | Santa Barbara County Public Works Department, 130 East Victoria Street, Suite 200, Santa Barbara, CA 93101. | Sep. 5, 2019 | 060331
Colorado:
Douglas (FEMA Docket No.: B-1935). | Town of Parker (19-08-0222P). | The Honorable Mike Waid, Mayor, Town of Parker, 20120 East Main Street, Parker, CO 80138. | Public Works Department, 20120 East Main Street, Parker, CO 80138. | Sep. 6, 2019 | 080310
El Paso (FEMA Docket No.: B-1939). | Town of Palmer Lake (18-08-1139P). | The Honorable John Cressman, Mayor, Town of Palmer Lake, P.O. Box 208, Palmer Lake, CO 80133. | Pikes Peak Regional Building Department, 2880 International Circle, Colorado Springs, CO 80910. | Sep. 19, 2019 | 080065
Larimer (FEMA Docket No.: B-1939). | Town of Johnstown (19-08-0211P). | The Honorable Gary Lebsack, Mayor, Town of Johnstown, 450 South Parish Avenue, Johnstown, CO 80534. | Town Hall, 450 South Parish Avenue, Johnstown, CO 80534. | Sep. 19, 2019 | 080250
Connecticut: Hartford (FEMA Docket No.: B-1952). | Town of West Hartford (19-01-0295P). | Mr. Matt Hart, Manager, Town of West Hartford, 50 South Main Street, West Hartford, CT 06107. | Planning and Zoning Department, 50 South Main Street, West Hartford, CT 06107. | Sep. 20, 2019 | 095081
Florida:
Duval (FEMA Docket No.: B-1939). | City of Jacksonville (19-04-0422P). | The Honorable Lenny Curry, Mayor, City of Jacksonville, 117 West Duval Street, Suite 400, Jacksonville, FL 32202. | Development Department, 214 North Hogan Street, Suite 2100, Jacksonville, FL 32202. | Sep. 23, 2019 | 120077
Monroe (FEMA Docket No.: B-1939). | City of Marathon (19-04-2700P). | The Honorable John Bartus, Mayor, City of Marathon, 9805 Overseas Highway, Marathon, FL 33050. | Planning Department, 9805 Overseas Highway, Marathon, FL 33050. | Sep. 30, 2019 | 120681
Monroe (FEMA Docket No.: B-1935). | Unincorporated areas of Monroe County (19-04-2123P). | The Honorable Sylvia Murphy, Mayor, Monroe County Board of Commissioners, 102050 Overseas Highway, Suite 234, Key Largo, FL 33037. | Monroe County Building Department, 2798 Overseas Highway, Suite 300, Marathon, FL 33050. | Sep. 3, 2019 | 125129
Monroe (FEMA Docket No.: B-1935). | Unincorporated areas of Monroe County (19-04-2180P). | The Honorable Sylvia Murphy, Mayor, Monroe County Board of Commissioners, 102050 Overseas Highway, Suite 234, Key Largo, FL 33037. | Monroe County Building Department, 2798 Overseas Highway, Suite 300, Marathon, FL 33050. | Aug. 26, 2019 | 125129
Monroe (FEMA Docket No.: B-1939). | Unincorporated areas of Monroe County (19-04-2598P). | The Honorable Sylvia Murphy, Mayor, Monroe County Board of Commissioners, 102050 Overseas Highway, Suite 234, Key Largo, FL 33037. | Monroe County Building Department, 2798 Overseas Highway, Suite 300, Key Largo, FL 33050. | Sep. 11, 2019 | 125129
Orange (FEMA Docket No.: B-1939). | City of Orlando (19-04-0400P). | The Honorable Buddy Dyer, Mayor, City of Orlando, 400 South Orange Avenue, Orlando, FL 32801. | Public Works Department, Engineering Division, 400 South Orange Avenue, Orlando, FL 32801. | Sep. 25, 2019 | 120186
Orange (FEMA Docket No.: B-1939). | Unincorporated areas of Orange County (19-04-0400P). | The Honorable Jerry L. Demings, Mayor, Orange County, 201 South Rosalind Avenue, 5th floor, Orlando, FL 32801. | Orange County Public Works Department, 4200 South John Young Parkway, Orlando, FL 32839. | Sep. 25, 2019 | 120179
Osceola (FEMA Docket No.: B-1935). | Unincorporated areas of Osceola County (18-04-7431P). | The Honorable Cheryl Grieb, Chair, Osceola County Board of Commissioners, 1 Courthouse Square, Suite 4700, Kissimmee, FL 34741. | Osceola County Stormwater Department, 1 Courthouse Square, Suite 3100, Kissimmee, FL 34741. | Aug. 30, 2019 | 120189
Palm Beach (FEMA Docket No.: B-1935). | Unincorporated areas of Palm Beach County (19-04-2277P). | The Honorable Mack Bernard, Mayor, Palm Beach County, 360 South County Road, Palm Beach, FL 33480. | Palm Beach County Planning, Zoning and Building Department, 2300 North Jog Road, West Palm Beach, FL 33411. | Sep. 10, 2019 | 120192
Pasco (FEMA Docket No.: B-1935). | Unincorporated areas of Pasco County (19-04-0817P). | The Honorable Ron Oakley, Chairman, Pasco County Board of Commissioners, 8731 Citizens Drive, New Port Richey, FL 34654. | Pasco County Central Permitting Department, 8731 Citizens Drive, New Port Richey, FL 34654. | Sep. 3, 2019 | 120230
Pinellas (FEMA Docket No.: B-1943). | City of Clearwater (19-04-0745P). | The Honorable George N. Cretekos, Mayor, City of Clearwater, P.O. Box 4748, Clearwater, FL 33758. | Engineering Department, 100 South Myrtle Avenue, Suite 220, Clearwater, FL 33756. | Sep. 30, 2019 | 125096
Polk (FEMA Docket No.: B-1935). | Unincorporated areas of Polk County (18-04-1711P). | The Honorable George Lindsey III, Chairman, Polk County Board of Commissioners, P.O. Box 9005, Drawer BC01, Bartow, FL 33831. | Polk County Land Development Division, 330 West Church Street, Bartow, FL 33830. | Sep. 5, 2019 | 120261
Polk (FEMA Docket No.: B-1939). | Unincorporated areas of Polk County (19-04-0741P). | The Honorable George Lindsey III, Chairman, Polk County Board of Commissioners, P.O. Box 9005, Drawer BC01, Bartow, FL 33831. | Polk County Land Development Division, 330 West Church Street, Bartow, FL 33830. | Sep. 19, 2019 | 120261
Louisiana:
Ascension (FEMA Docket No.: B-1939). | City of Gonzales (19-06-1893X). | The Honorable Barney Arceneaux, Mayor, City of Gonzales, 120 South Irma Boulevard, Gonzales, LA 70737. | City Hall, 120 South Irma Boulevard, Gonzales, LA 70737. | Sep. 20, 2019 | 220015
Ascension (FEMA Docket No.: B-1939). | Town of Sorrento (19-06-1893X). | The Honorable Michael Lambert, Mayor, Town of Sorrento, P.O. Box 65, Sorrento, LA 70778. | Town Hall, 8173 Main Street, Sorrento, LA 70778. | Sep. 20, 2019 | 220016
Ascension (FEMA Docket No.: B-1939). | Unincorporated areas of Ascension Parish (19-06-1893X). | The Honorable Kenny Matassa, Ascension Parish President, 615 East Worthy Road, Gonzales, LA 70737. | Ascension Parish Government Complex, 615 East Worthy Road, Gonzales, LA 70737. | Sep. 20, 2019 | 220013
North Carolina:
Bladen (FEMA Docket No.: B-1948). | Town of Elizabethtown (18-04-5359P). | The Honorable Sylvia Campbell, Mayor, Town of Elizabethtown, 805 West Broad Street, P.O. Box 716, Elizabethtown, NC 28337. | Town Hall, 805 West Broad Street, Elizabethtown, NC 28337. | Sep. 25, 2019 | 370027
Edgecombe (FEMA Docket No.: B-1935). | Town of Tarboro (18-04-0633P). | The Honorable Joe W. Pitt, Mayor, Town of Tarboro, 500 Main Street, Tarboro, NC 27886. | Planning Department, 500 Main Street, Tarboro, NC 27886. | Sep. 5, 2019 | 370094
Edgecombe (FEMA Docket No.: B-1935). | Unincorporated areas of Edgecombe County (18-04-0633P). | The Honorable Leonard Wiggins, Chairman, Edgecombe County Board of Commissioners, 201 Saint Andrew Street, Tarboro, NC 27886. | Edgecombe County Planning Department, 201 Saint Andrew Street, Tarboro, NC 27886. | Sep. 5, 2019 | 370087
Pennsylvania: Chester (FEMA Docket No.: B-1935). | Township of West Whiteland (18-03-2192P). | Ms. Mimi Gleason, Manager, Township of West Whiteland, 101 Commerce Drive, Exton, PA 19341. | Township Hall, 101 Commerce Drive, Exton, PA 19341. | Sep. 5, 2019 | 420295
South Carolina:
Charleston (FEMA Docket No.: B-1935). | Town of Sullivan's Island (19-04-1973P). | The Honorable Patrick M. O'Neil, Mayor, Town of Sullivan's Island, P.O. Box 427, Sullivan's Island, SC 29482. | Building Department, 2056 Middle Street, Sullivan's Island, SC 29482. | Aug. 28, 2019 | 455418
Charleston (FEMA Docket No.: B-1939). | Town of Sullivan's Island (19-04-2775P). | The Honorable Patrick M. O'Neil, Mayor, Town of Sullivan's Island, P.O. Box 427, Sullivan's Island, SC 29482. | Building Department, 2056 Middle Street, Sullivan's Island, SC 29482. | Sep. 25, 2019 | 455418
Lexington (FEMA Docket No.: B-1935). | Unincorporated areas of Lexington County (18-04-3635P). | The Honorable Scott Whetstone, Chairman, Lexington County Council, 212 South Lake Drive, Suite 601, Lexington, SC 29072. | Lexington County Administration Building, 212 South Lake Drive, Suite 401, Lexington, SC 29072. | Aug. 30, 2019 | 450129
Saluda (FEMA Docket No.: B-1948). | Unincorporated areas of Saluda County (19-04-0064P). | Ms. Sandra G. Padget, Saluda County Director, 400 West Highland Street, Saluda, SC 29138. | Saluda County Building Codes Department, 400 West Highland Street, Saluda, SC 29138. | Sep. 6, 2019 | 450230
Tennessee: Wilson (FEMA Docket No.: B-1943). | City of Mt. Juliet (19-04-0964P). | The Honorable Ed Hagerty, Mayor, City of Mt. Juliet, 2425 North Mount Juliet Road, Mt. Juliet, TN 37122. | City Hall, 2425 North Mt. Juliet Road, Mt. Juliet, TN 37122. | Sep. 27, 2019 | 470290
Texas:
Bexar (FEMA Docket No.: B-1948). | City of San Antonio (18-06-3814P). | The Honorable Ron Nirenberg, Mayor, City of San Antonio, P.O. Box 839966, San Antonio, TX 78283. | Transportation and Capitol Improvements Department, Stormwater Division, 1901 South Alamo Street, 2nd Floor, San Antonio, TX 78204. | Sep. 16, 2019 | 480045
Bexar (FEMA Docket No.: B-1948). | Unincorporated areas of Bexar County (18-06-2501P). | The Honorable Nelson W. Wolff, Bexar County Judge, 101 West Nueva Street, 10th Floor, San Antonio, TX 78205. | Bexar County Public Works Department, 233 North Pecos-La Trinidad Street, Suite 420, San Antonio, TX 78207. | Sep. 30, 2019 | 480035
Dallas (FEMA Docket No.: B-1939). | City of Coppell (18-06-2208P). | The Honorable Karen Hunt, Mayor, City of Coppell, P.O. Box 9478, Coppell, TX 75019. | City Hall, 255 East Parkway Boulevard, Coppell, TX 75019. | Sep. 23, 2019 | 480170
Dallas (FEMA Docket No.: B-1948). | City of Dallas (18-06-3143P). | The Honorable Michael Rawlings, Mayor, City of Dallas, 1500 Marilla Street, Suite 5EN, Dallas, TX 75201. | Oak Cliff Municipal Center, 320 East Jefferson Boulevard, Room 312, Dallas, TX 75203. | Sep. 30, 2019 | 480171
Dallas (FEMA Docket No.: B-1948). | City of Garland (18-06-3143P). | The Honorable Lori Barnett Dodson, Mayor, City of Garland, 200 North 5th Street, Garland, TX 75040. | City Hall, 200 North 5th Street, Garland, TX 75040. | Sep. 30, 2019 | 485471
Dallas (FEMA Docket No.: B-1948). | City of Rowlett (18-06-3143P). | The Honorable Tammy Dana-Bashian, Mayor, City of Rowlett, 4000 Main Street, Rowlett, TX 75088. | City Hall, 4000 Main Street, Rowlett, TX 75088. | Sep. 30, 2019 | 480185
Grayson (FEMA Docket No.: B-1939). | City of Sherman (19-06-0025P). | The Honorable David Plyler, Mayor, City of Sherman, 220 West Mulberry Street, Sherman, TX 75090. | Engineering Department, 220 West Mulberry Street, Sherman, TX 75090. | Sep. 30, 2019 | 485509
Kendall (FEMA Docket No.: B-1943). | Unincorporated areas of Kendall County (18-06-3773P). | The Honorable Darrel L. Lux, Kendall County Judge, 201 East San Antonio Avenue, Suite 122, Boerne, TX 78006. | Kendall County Engineering Department, 201 East San Antonio Avenue, Suite 101, Boerne, TX 78006. | Sep. 23, 2019 | 480417
Liberty (FEMA Docket No.: B-1939). | Unincorporated areas of Muskogee County (19-06-1218P). | The Honorable Jay H. Knight, Liberty County Judge, 1923 Sam Houston Street, Room 201, Liberty, TX 77575. | Liberty County Engineering Department, 624 Fannin Street, Liberty, TX 77575. | Sep. 20, 2019 | 480438
Rockwell (FEMA Docket No.: B-1939). | City of Fate (18-06-3709P). | The Honorable Lorne Megyesi, Mayor, City of Fate, P.O. Box 159, Fate, TX 75132. | City Hall, 1900 C.D. Boren Parkway, Fate, TX 75087. | Sep. 16, 2019 | 480544
Smith (FEMA Docket No.: B-1935). | City of Tyler (18-06-3790P). | The Honorable Martin Heines, Mayor, City of Tyler, P.O. Box 2039, Tyler, TX 75710. | Development Center, 423 West Ferguson Street, Tyler, TX 75710. | Sep. 3, 2019 | 480571
Smith (FEMA Docket No.: B-1935). | Unincorporated areas of Smith County (18-06-3790P). | The Honorable Nathaniel Moran, Smith County Judge, 200 East Ferguson Street, Suite 100, Tyler, TX 75702. | Smith County Road and Bridge Department, 1700 West Claude Street, Tyler, TX 75702. | Sep. 3, 2019 | 481185

[FR Doc. 2019-23114 Filed 10-22-19; 8:45 am]

BILLING CODE 9110-12-P